DEPARTMENT OF THE INTERIOR

Bureau of Indian Affairs

[2231A2100DD/AAKC001030/A0A501010.999900]

Indian Gaming; Approval of Tribal-State Class III Gaming Compact in the State of California

AGENCY: Bureau of Indian Affairs, Interior.

ACTION: Notice.

SUMMARY: This notice publishes the approval of the Tribal-State Gaming Compact between the State of California sand the Tejon Indian Tribe (Compact) providing for Class III gaming between the Tejon Indian Tribe (Tribe) and the State of California (State).

DATES: The Amendment takes effect on November 23, 2022.

FOR FURTHER INFORMATION CONTACT: Ms. Paula L. Hart, Director, Office of Indian Gaming, Office of the Deputy Assistant Secretary—Policy and Economic Development, Washington, DC 20240, paula.hart@bia.gov, (202) 219-4066.

SUPPLEMENTARY INFORMATION: Under section 11 of the Indian Gaming Regulatory Act (IGRA), Public Law 100-497, 25 U.S.C. 2701 et seq., the Secretary of the Interior shall publish in the Federal Register notice of approved Tribal-State compacts for the purpose of engaging in Class III gaming activities on Indian lands. As required by 25 CFR 293.4, all compacts and amendments are subject to review and approval by the Secretary. The Compact permits the Tribe to conduct class III gaming permitted in the State, including gaming devices, any banking or percentage card games, any devices authorized under state law to the California State Lottery, and off-track wagering on horse races. The Tribe is permitted to operate two gaming facilities on its Indian lands, provided one of the gaming facilities has a primary purpose other than gaming and operates no more than 50 gaming devices. The Compact term is for 25 years from the effective date. The Compact is approved.

Bryan Newland,
Assistant Secretary—Indian Affairs.

[FR Doc. 2022-25615 Filed 11-22-22; 8:45 am]

BILLING CODE 4337-15-P